DEPARTMENT OF ENERGY

Federal Energy Regulatory Commission

[Docket No. CP10-12-000]

Florida Gas Transmission Company, LLC; Notice of Withdrawal of Staff Protest to Proposed Blanket Certificate Activity

January 29, 2010.

Commission staff (Protestor) hereby withdraws its Protest to the Proposed Blanket Certificate Activity filed in the above-referenced proceeding on January 7, 2010.

In its prior notice request filed on October 29, 2009 (in Docket No. CP10-12-000) and noticed on November 9, 2009,¹ Florida Gas Transmission Company, LLC proposed to replace, upgrade, and relocate portions of the existing St. Petersburg and Clearwater South Laterals and Block Valve 24-10 in the City of Clearwater, Pinellas County, Florida. Protestor protested the prior notice because the U.S. Fish and Wildlife Service (USFWS) had not determined if the proposed project would impact any federally listed threatened or endangered species. Subsequent to the filing of the protest, USFWS made a determination that no impacts on federally listed species would occur as a result of the proposed project. Thus, Protestor's environmental concern has been satisfied. Accordingly, Protestor hereby withdraws its Protest to the Proposed Blanket Certificate Activity filed in the instant docket on January 7, 2010.

¹ Notice of the request was published in the Federal Register on November 17, 2009 (74 FR 59,161).

Kimberly D. Bose,
Secretary.

[FR Doc. 2010-2486 Filed 2-4-10; 8:45 am]

BILLING CODE 6717-01-P